NATIONAL INDIAN GAMING COMMISSION

25 CFR Part 542

RIN 3141-AA24

Minimum Internal Control Standards

AGENCY: National Indian Gaming Commission.

ACTION: Proposed rule: Notice of extension of time.

SUMMARY: On December 26, 2001, the National Indian Gaming Commission (Commission) issued a Proposed Rule proposing revisions to its Minimum Internal Control Standards. Upon several requests from affected Tribes, the date for filing comments is being extended.

DATES: Comments shall be filed on or before March 4, 2002.

ADDRESSES: Send comments by mail, facsimile, or hand delivery to: Minimum Internal Control Standards, Revision Comments, National Indian Gaming Commission, Suite 9100, 1441 L Street, NW., Washington, DC 20005. Fax number: 202-632-7066 (not a toll-free number). Public comments may be delivered or inspected from 9 a.m. until noon and from 2 p.m. to 5 p.m. Monday through Friday.

FOR FURTHER INFORMATION, CONTACT: Michele F. Mitchell at 202-632-7003 or, by fax, at 202-632-7066 (these are not toll-free numbers).

SUPPLEMENTARY INFORMATION: The Indian Gaming Regulatory Act (“IGRA” or “Act”) 25 U.S.C. 2701-2721, enacted on October 17, 1988, established the National Indian Gaming Commission (Commission). On January 5, 1999, the Commission established Minimum Internal Control Standards (MICS) for gaming operations by regulation. 25 CFR part 542. On November 27, 2000, the Commission solicited comments regarding revisions to the MICS. As a result of the comments, the Commission set up an Advisory Committee to assist in addressing the comments received and drafting proposed revisions. The resulting proposed revisions were published in the Federal Register on December 26, 2001 (66 FR 66500), with a 60-day comment period, as corrected on January 24, 2002 (67 FR 3537). A public hearing was held on February 5, 2002. Because of several requests from tribes affected by the revisions, the Commission has decided to extend the comment period by one week. The public comment period will now end on Monday, March 4, 2002.

Dated: February 22, 2002.
Elizabeth L. Homer,
Vice-Chair.
Teresa E. Poust,
Commissioner, National Indian Gaming Commission.

[FR Doc. 02-4797 Filed 2-27-02; 8:45 am]

BILLING CODE 7565-01-P